DEPARTMENT OF DEFENSE

Department of the Army; Corps of Engineers

Availability of the Draft Detailed Project Report and Environmental Impact Statement (DPR/EIS), Marlinton Local Protection Project, Marlinton, Pocahontas County, WV

AGENCY: U.S. Army Corps of Engineers, DoD.

ACTION: Notice of availability.

SUMMARY: In accordance with the requirements of the National Environmental Policy Act (NEPA), the U.S. Army Corps of Engineers (USACE), Huntington District has prepared a Draft Detailed Project Report and Environmental Impact Statement (DEIS) in response to section 579 of the Water Resources Development Act of 1996 (WRDA). This act authorizes the Corps to design and implement flood damage reduction measures for certain named communities in the Greenbrier River Valley. The report focuses on providing protection for the Town of Marlinton, Pocahontas County, West Virginia against flooding such as occurred in November 1985, January 1996 and May 1996.

The purpose of the Corps action would be to implement a local protection measure that would reduce or eliminate the damages associated with flood-stage flows of the Greenbrier River and Knapp Creek near Marlinton to the elevation of the 1985 flood of record.

DATES: The agency must receive comments on or before December 21, 2001. A public hearing on the Marlinton Local Protection Project Draft DPR/EIS will be held at the Marlinton Town Hall auditorium, 709 2nd Avenue, Marlinton, Pocahontas County, West Virginia on Thursday, December 6, 2001, beginning at 7 PM.

ADDRESSES: Send written comments and suggestions concerning this proposed project to S. Michael Worley, PM-PD, U.S. Army Corps of Engineers, Huntington District, 502 Eighth Street, Huntington, West Virginia 25701-2070. Telephone: (304) 529-5636. Requests to be placed on the mailing list should also be sent to this address. Submit electronic comments in ASCII, Microsoft Word, or Word Perfect file format to Stephen.M.Worley@usace.army.mil.

FOR FURTHER INFORMATION CONTACT: To obtain additional information about the proposed project, contact Karen Miller, PM-PD-F, U.S. Army Corps of Engineers, Huntington District, 502 Eighth Street, Huntington, West Virginia 25701-2070. Telephone: 304-529-5638. Electronic mail: Karen.V.Miller@usace.army.mil.

SUPPLEMENTARY INFORMATION: Detailed project studies have included consideration of a number of basin-wide and local flood damage reduction measures including mainstem dams and reservoirs, tributary impoundments, floodwall/levee combinations, channel modification and various non-structural measures. As part of the Marlinton Local Protection Project study, various alternatives considered were found effective for protecting Marlinton from the 1985 flood of record, including: floodwall/levee, floodwall/levee with diversion of the lower portion of Knapps Creek, and floodproofing and structure relocation options. More detailed evaluations determined that all the alternatives except levee/floodwall combinations and stream diversion were ineffective, very costly and/or too disruptive to the community. The most effective plans are a levee/floodwall combination for Marlinton including Riverside, and a levee/floodwall combination with diversion of Knapps Creek. These two alternatives along with the no action alternative have been evaluated in detail and the results documented in this report and EIS.

A public hearing on the Marlinton Local Protection Project Draft DPR/EIS will be held at the Marlinton Town Hall auditorium on Thursday, December 6, 2001, beginning at 7 PM. The hearing will provide an opportunity for the public to present oral, or written comments.

USACE has distributed copies of the Draft EIS to appropriate Members of Congress, State and local government officials in West Virginia, Federal agencies, and other interested parties. Copies of the document may be obtained by contacting USACE Huntington District Office of the Corps of Engineers (See ADDRESSES) and are available for public review at the following locations:

(1) McClintic Library, 500 8th Street, Marlinton, WV 24954.

(2) Hillsboro Library, HC 64, Box 398, Hillsboro, WV 24954.

(3) Durbin Library, P.O. Box 333, Durbin, WV 26264.

(4) Green Bank Library, P.O. Box 1, Green Bank, WV 24944.

(5) U.S. Army Corps of Engineers, Room 3100, 502 Eighth Street PD-R, Huntington, WV 25701.

(6) Internet— http://www.lrh.usace.army.mil/pd/MarlintonLPP/.

After the public comment period ends on December 21, 2001, USACE will consider all comments received, revise the Draft EIS as appropriate, and issue a Final EIS.

Luz D. Ortiz,
Army Federal Register Liaison Officer.

[FR Doc. 01-27631 Filed 11-1-01; 8:45 am]

BILLING CODE 3710-GM-M